DEPARTMENT OF ENERGY

Federal Energy Regulatory Commission

[Docket No. EC01-96-000]

NRG Energy, Inc. et al.; Notice of Filing

July 30, 2001.

Take notice that on July 25, 2001, NRG Energy, Inc., Indeck Energy Services, Inc, Indeck Energy Services of Ilion, Inc., and Indeck Ilion Cogeneration Corporation (together Applicants), pursuant to Section 203 of the Federal Power Act, filed with the Federal Energy Regulatory Commission a supplement to their May 7, 2001 joint application for the disposition of jurisdictional facilities. This supplemental filing revised the original market concentration analysis to reflect the fact that generating capacity associated with the 300 MW Rockford I Plant is subject to a tolling agreement with Commonwealth Edison and therefore should be attributed to Commonwealth Edison. In addition, the supplement filing, provides an analysis of market power concentration associated with the Commonwealth Edison destination market in 2004.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before August 9, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-19442 Filed 8-2-01; 8:45 am]

BILLING CODE 6717-01-P